DEPARTMENT OF ENERGY

Energy Information Administration

Agency Information Collection Extension

AGENCY: U.S. Energy Information Administration (EIA), Department of Energy.

ACTION: Agency Information Collection Activities: Information Collection Extension with Changes; Notice and Request for Comments.

SUMMARY: The EIA invites public comment on the proposed collection of information, EIA-882T, “Generic Clearance for Questionnaire Testing, Evaluation, and Research” that EIA is developing for submission to the Office of Management and Budget (OMB) pursuant to the Paperwork Reduction Act of 1995. Comments are invited on whether the proposed collection of information is necessary for the proper performance of the functions of the agency, including whether the information shall have practical utility; the accuracy of the agency's estimate of the burden of the proposed collection of information, including the validity of the methodology and assumptions used; ways to enhance the quality, utility, and clarity of the information to be collected; and ways to minimize the burden of the collection of information on respondents, including through the use of automated collection techniques or other forms of information technology.

DATES: Comments regarding this proposed information collection must be received on or before December 29, 2015. If you anticipate difficulty in submitting comments within that period, contact the person listed in ADDRESSES as soon as possible.

ADDRESSES: Written comments may be sent to Jacob Bournazian, Energy Information Administration, 1000 Independence Avenue SW., Washington DC 20585 or by fax at 202-586-0552 or by email at jacob.bournazian@eia.gov.

FOR FURTHER INFORMATION CONTACT: Requests for additional information or copies of the information collection instrument and instructions should be directed to Jacob Bournazian, Energy Information Administration, 1000 Independence Avenue SW., Washington, DC 20585, phone: 202-586-5562, email: jacob.bournazian@eia.gov.

SUPPLEMENTARY INFORMATION: This information collection request contains:

(1) OMB No.: 1905-0186;

(2) Information Collection Request Title: Generic Clearance for Questionnaire Testing, Evaluation, and Research;

(3) Type of Request: Revision;

(4) Purpose: The U.S. Energy Information Administration (EIA) is planning to request a three-year approval from the Office of Management and Budget (OMB) to utilize qualitative and quantitative methodologies to pretest questionnaires and validate the quality of the data collected on EIA forms. This authority would allow EIA to conduct pretest surveys, pilot surveys, respondent debriefings, cognitive interviews, usability interviews, and focus groups. Through the use of these methodologies, EIA will improve the quality of data being collected for measuring market activity and assessing supply conditions in energy markets, reduce or minimize respondent burden, increase agency efficiency, and improve responsiveness to the public. This authority also improves EIA's ability to collect relevant and timely information that meets the data needs of EIA's customers.

The specific methods proposed for the coverage by this clearance are described below. Also outlined is the legal authority for these voluntary information gathering activities.

The following methods are proposed:

Field Testing. Field testing surveys conducted under this clearance will generally be methodological studies. The field testing samples drawn may not be representative of the survey respondent universe because they will be designed to clarify particular issues. Collection may be on the basis of fuel market coverage related to the issues that are the subject to the research, market size of the respondent, position of the respondent in the upstream and/or downstream market for a particular fuel group, and convenience, e.g., limited to specific geographic locations. The sample sizes and designs will be determined at the time of development and will vary based on the content of the information collection or survey being tested.

Pilot Surveys. Pilot surveys conducted under this clearance will generally be methodological studies, but will always employ statistically representative samples. The pilot surveys will replicate all components of the methodological design, sampling procedures (where possible) and questionnaires of the full scale survey. Pilots will normally be utilized when EIA undertakes a complete redesign of a particular data collection methodology or when EIA undertakes data collection in new areas, such as greenhouse gases or alternative fueled motor vehicle transportation system studies.

Respondent Debriefings. Respondent debriefings conducted under this clearance will generally be methodological or cognitive research studies. The debriefing form is administered after a respondent completes a questionnaire either in paper format, electronically, or through in-person interviews. The debriefings contain probing questions to determine how respondents interpret the survey questions, how much time and effort was spent completing the questionnaire, and whether they have problems in completing the survey/questionnaire. Respondent debriefings also are useful in determining potential issues with data quality and in estimating respondent burden.

Cognitive Interviews. Cognitive interviews are typically one-on-one interviews in which the respondent is usually asked to “think aloud” or is asked “retrospective questions” as he or she answers survey questions, reads survey materials, or completes other activities as part of a survey process. A number of different techniques may be involved, including asking respondents what specific words or phrases mean, and asking respondents probing questions to determine how they estimate or calculate specific data elements on a survey form. The objective of these interviews is to identify problems of ambiguity or misunderstanding, to identify other difficulties respondents have answering questions, reduce measurement error in a survey, and assess the burden for reporting energy information.

Usability Interviews. Usability interviews are similar to cognitive interviews in which a respondent is typically asked to “think aloud” or asked “retrospective questions” as he or she reviews an electronic questionnaire, Web site and/or associated materials, or hard copy form. The objective of a usability interview is to make sure that respondents can easily and intuitively navigate electronic questionnaires, Web sites and other associated materials, or other survey instruments.

Focus Groups. Focus groups involve group sessions guided by a moderator who follows a topic guide containing questions or topics focused on a particular issue rather than adhering to a standardized questionnaire. Focus groups are useful for surfacing and exploring issues with populations of interest, e.g., a specific group of stakeholders.

(5) Annual Estimated Number of Respondents: 2,000;

(6) Annual Estimated Number of Total Responses: 2,000;

(7) Annual Estimated Number of Burden Hours: 2,000;

(8) Annual Estimated Reporting and Recordkeeping Cost Burden: There are no additional costs associated with these survey methods other than the burden hours. The information is maintained in the normal course of business. The cost of burden hours to the respondents is estimated to be $143,940 (2,000 burden hours times $71.97 per hour), which represents a reduction of 1,006 burden hours from the prior renewal of this collection. Therefore, other than the cost of burden hours, EIA estimates that there are no additional costs for generating, maintaining and providing the information.

Statutory Authority: Section 13(b) of the Federal Energy Administration Act of 1974, Public Law 93-275, codified at 15 U.S.C. 772(b).

Issued in Washington, DC, on October 26, 2015.
Nanda Srinivasan,
Director, Office of Survey Development and Statistical Integration, U.S. Energy Information Administration.

[FR Doc. 2015-27721 Filed 10-29-15; 8:45 am]

BILLING CODE 6450-01-P